FEDERAL RETIREMENT THRIFT INVESTMENT BOARD

Sunshine Act; Notice of Meeting

Agenda: Federal Retirement Thrift Investment Board Member Meeting, 1700 K Street NW., #700, Washington, DC 20006, 10:00 a.m. (In-Person), April 12, 2017.

Closed Session: Information covered under 5 U.S.C. 552b(c)(9)(B).

CONTACT PERSON FOR MORE INFORMATION: Kimberly Weaver, Director, Office of External Affairs, (202) 942-1640.

Dated: April 10, 2017.
Megan Grumbine,
Secretary.

[FR Doc. 2017-07503 Filed 4-10-17; 4:15 pm]

BILLING CODE 6760-01-P